DEPARTMENT OF TRANSPORTATION

Federal Aviation Administration

14 CFR Part 39

[Docket No. FAA-2015-1423; Directorate Identifier 2014-NM-173-AD; Amendment 39-18418; AD 2016-04-24]

RIN 2120-AA64

Airworthiness Directives; The Boeing Company Model 757-200 Series Airplanes Modified by Supplemental Type Certificate (STC) ST01529SE or STC ST02278SE

AGENCY: Federal Aviation Administration (FAA), DOT.

ACTION: Final rule.

SUMMARY: We are adopting a new airworthiness directive (AD) for certain The Boeing Company Model 757-200 series airplanes modified by particular STCs. This AD was prompted by reports of a main cargo door being blown past its full open position while on the ground during gusty wind conditions, which resulted in uncontrolled fall down to its closed position. This AD requires installing a new placard and bracket, replacing an existing placard, and replacing the main cargo door control panel. We are issuing this AD to prevent damage to the main cargo door, which could result in rapid decompression of the airplane, or injury to maintenance and ground crew during ground operations.

DATES: This AD is effective April 4, 2016.

The Director of the Federal Register approved the incorporation by reference of a certain publication listed in this AD as of April 4, 2016.

ADDRESSES: For service information identified in this final rule, contact Precision Conversions LLC, 4900 SW Griffith Drive, Suite 133, Beaverton, OR 97005; ATTN: Steven A. Lopez; phone: 503-601-3001; email: Steven.Lopez@precisionaircraft.com. You may view this referenced service information at the FAA, Transport Airplane Directorate, 1601 Lind Avenue SW., Renton, WA. For information on the availability of this material at the FAA, call 425-227-1221. It is also available on the Internet at http://www.regulations.gov by searching for and locating Docket No. FAA-2015-1423.

Examining the AD Docket

You may examine the AD docket on the Internet at http://www.regulations.gov by searching for and locating Docket No. FAA-2015-1423; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Narinder Luthra, Aerospace Engineer, Airframe Branch, ANM-120S, FAA, Seattle Aircraft Certification Office (ACO), 1601 Lind Avenue SW., Renton, WA 98057-3356; phone: 425-917-6513; fax: 425-917-6590; email: Narinder.Luthra@faa.gov.

SUPPLEMENTARY INFORMATION:

Discussion

We issued a notice of proposed rulemaking (NPRM) to amend 14 CFR part 39 by adding an AD that would apply to certain The Boeing Company Model 757-200 series airplanes modified by particular STCs. The NPRM published in the Federal Register on June 5, 2015 (80 FR 32061) (“the NPRM”). The NPRM was prompted by reports of a main cargo door being blown past its full open position while on the ground during gusty wind conditions, which resulted in uncontrolled fall down to its closed position. The NPRM proposed to require installation of a new placard and bracket, replacement of an existing placard, and replacement of the main cargo door control panel. We are issuing this AD to prevent damage to the main cargo door, which could result in rapid decompression of the airplane, or injury to maintenance and ground crew during ground operations.

Comments

We gave the public the opportunity to participate in developing this AD. The following presents the comments received on the NPRM and the FAA's response to each comment.

Request To Revise Description of the Unsafe Condition

Precision Conversions, LLC requested that we revise the SUMMARY and Discussion sections of the NPRM and the unsafe condition section of the proposed AD. Precision Conversions, LLC stated that it was concerned by certain conclusions stated in the NPRM for which it does not believe there is a factual basis. Precision Conversions, LLC noted that the NPRM stated that wind damage to a cargo door could result in rapid decompression, leading to in-flight breakup. However, even without the accomplishment of Precision Conversions Service Bulletin PC-757-11-0023, dated August 1, 2014, Precision Conversions, LLC stated that the suggested scenario would not occur. If, during ground operations, the main cargo door were to deflect beyond the fully open position enough to be of concern, its damaged operating system would prevent the cargo door from closing as usual, which would not go unnoticed by the crew, and the airplane would not be dispatched. Thus, a potential unsafe condition would occur only on the ground, not in the air.

Precision Conversions, LLC stated that a potential for an unsafe condition does arise from the possibility of ground crew operating the main cargo door outside of the wind limits published in the aircraft maintenance manual and operations manual supplements. Precision Conversions, LLC asserted that exceeding published limits could result in damage to the door operating system and loss of control of the door, creating an unsafe condition, but only during ground operations; thus, Precision Conversions, LLC believed that the proposed language regarding rapid decompression and in-flight breakup had no basis, given the relevant factual scenario, and should not be included in the final rule. Precision Conversions, LLC requested that we revise the unsafe condition to indicate that the NPRM will “prevent wind damage to the main cargo door operating system and ensure its safe use during ground operations.”

We partially agree with the request. We disagree that a damaged door will always be detected because of human factors. We agree, however, that rapid decompression might not necessarily lead to in-flight breakup, which would depend on the decompression. We have therefore revised the SUMMARY and Discussion sections of this final rule and paragraph (e), Unsafe Condition, of this AD to remove reference to in-flight breakup, and to include injury to maintenance and ground crew during ground operations.

Statement Regarding Content of NPRM

Boeing stated that the NPRM does not address or affect any Boeing designs; therefore, Boeing can neither review the data nor comment on the content of the NPRM.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Precision Conversions LLC Service Bulletin PC-757-11-0023, dated August 1, 2014. The service information describes procedures for installing a new placard and bracket, replacement of an existing placard, and replacement of the main cargo door control panel. This service information is reasonably available because the interested parties have access to it through their normal course of business or by the means identified in the ADDRESSES section.

Costs of Compliance

We estimate that this AD affects 9 airplanes of U.S. registry.

We estimate the following costs to comply with this AD:

Estimated Costs
Action | Labor cost | Parts cost | Cost per product | Cost on U.S. operators
Installation | 6 work-hours × $85 per hour = $510 | $0 * | $510 | $4,590
* According to the manufacturer, the kits will be provided at no charge to operators.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-04-24 The Boeing Company: Amendment 39-18418; Docket No. FAA-2015-1423; Directorate Identifier 2014-NM-173-AD.

(a) Effective Date

This AD is effective April 4, 2016.

(b) Affected ADs

None.

(c) Applicability

This AD applies to The Boeing Company Model 757-200 series airplanes, certificated in any category, modified by the applicable supplemental type certificate identified in paragraphs (c)(1) and (c)(2) of this AD.

(1) ST01529SE (http://rgl.faa.gov/Regulatory_and_Guidance_Library/rgstc.nsf/0/0af09c3701a237ee86257a5d0064b3aa/$FILE/ST01529SE.pdf).

(2) ST02278SE (http://rgl.faa.gov/Regulatory_and_Guidance_Library/rgstc.nsf/0/e54b5289a2e9f6ef86257b7f0056edaf/$FILE/ST02278SE.pdf).

(d) Subject

Air Transport Association (ATA) of America Code 11, Placards and Markings.

(e) Unsafe Condition

This AD was prompted by reports of a main cargo door being blown past its full open position while on the ground during gusty wind conditions, which resulted in uncontrolled fall down to its closed position. We are issuing this AD to prevent damage to the main cargo door, which could result in rapid decompression of the airplane, or injury to maintenance and ground crew during ground operations.

(f) Compliance

Comply with this AD within the compliance times specified, unless already done.

(g) Installation

Within 90 days after the effective date of this AD, install a new placard and bracket, replace the existing placard, and replace the main cargo door control panel, in accordance with the Accomplishment Instructions of Precision Conversions Service Bulletin PC-757-11-0023, dated August 1, 2014.

(h) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (i)(1) of this AD. Information may be emailed to: 9-ANM-Seattle-ACO-AMOC-Requests@faa.gov.

(2) Before using any approved AMOC, notify your appropriate principal inspector, or lacking a principal inspector, the manager of the local flight standards district office/certificate holding district office.

(i) Related Information

For more information about this AD, contact Narinder Luthra, Aerospace Engineer, Airframe Branch, ANM-120S, FAA, Seattle Aircraft Certification Office (ACO), 1601 Lind Avenue SW., Renton, WA 98057-3356; phone: 425-917-6513; fax: 425-917-6590; email: Narinder.Luthra@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Precision Conversions Service Bulletin PC-757-11-0023, dated August 1, 2014.

(ii) Reserved.

(3) For service information identified in this AD, contact Precision Conversions LLC, 4900 SW Griffith Drive, Suite 133, Beaverton, OR 97005; ATTN: Steven A. Lopez; phone: 503-601-3001; email: Steven.Lopez@precisionaircraft.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 16, 2016.
Dionne Palermo,
Acting Manager, Transport Airplane Directorate, Aircraft Certification Service.

[FR Doc. 2016-04036 Filed 2-26-16; 8:45 am]

BILLING CODE 4910-13-P